DEPARTMENT OF TRANSPORTATION

Federal Aviation Administration

Notice of Availability of Draft Air Tour Management Plans and Draft Environmental Assessments (EA) and Public Meetings

AGENCY: Federal Aviation Administration (FAA), Department of Transportation (DOT).

ACTION: Notice.

SUMMARY: The FAA, in cooperation with the National Park Service (NPS), has initiated development of ATMPs for Haleakalā National Park, Hawai'i Volcanoes National Park, Mount Rushmore National Memorial, and Badlands National Park (collectively referred to as the Parks) pursuant to the National Parks Air Tour Management Act of 2000 and its implementing regulations. This notice announces the public availability of the draft ATMPs and draft EAs for comment and the dates of the public meetings for each of the Parks. The purpose of the public meetings is to review the draft ATMPs with the public. The draft ATMPs provide acceptable and effective measures to mitigate or prevent the significant adverse impacts, if any, of commercial air tour operations upon the Parks' natural and cultural resources and visitor experiences, as well as on tribal lands. In accordance with section 106 of the National Historic Preservation Act, the FAA and the NPS are also seeking public comment on the potential of the draft ATMPs to cause adverse effects to historic properties.

DATES:

Comment Period Dates

For Haleakalā and Hawai'i Volcanoes National Parks, comments must be received on or before June 16, 2023, by 8:00 p.m. HST. For Mount Rushmore National Memorial and Badlands National Park, comments must be received on or before June 16, 2023, by 11:59 MDT.

Comments will be received on the NPS Planning, Environment and Public Comment System (PEPC) website. Each park's website link is below:

• Haleakalā National Park— https://parkplanning.nps.gov/HaleakalaATMP

• Hawai'i Volcanoes National Park— https://parkplanning.nps.gov/HawaiiVolcanoesATMP

• Mount Rushmore National Memorial— https://parkplanning.nps.gov/MountRushmoreATMP

• Badlands National Park— https://parkplanning.nps.gov/BadlandsATMP

Before including your address, phone number, email address, or other personal identifying information in your comment, be advised that your entire comment—including your personal identifying information—may be made publicly available at any time. While you can ask in your comment to withhold from public review your personal identifying information, we cannot guarantee that we will be able to do so.

Public Meeting Dates

The meetings will be held virtually at the dates and times listed below. Questions will be accepted during the public meeting for each Park through a separate form. The link for the question form is provided below for each meeting.

• Badlands National Park

○ Wednesday, May 24, 2023 (6:00 p.m.-7:30 p.m. MDT)

○ Join meeting: https://faavideo.zoomgov.com/j/1600068134

• Passcode: 246810

• To join using the “Zoom Cloud Meetings” app, please use the meeting ID and passcode below:

○ Meeting ID: 160 006 8134

○ Passcode: 246810

• To join using phone audio only, please use:

○ Call 1-888-924-3239

○ Meeting ID: 160 006 8134

○ Passcode: 246810

○ Submit questions for the meeting: https://forms.gle/6msA7mFayKq13ch49

• Haleakalā National Park

○ Thursday, May 25, 2023 (6:00 p.m.-7:30 p.m. HST)

○ Join meeting: https://faavideo.zoomgov.com/j/1614722433

• Passcode: 246810

• To join using the “Zoom Cloud Meetings” app, please use the meeting ID and passcode below:

○ Meeting ID: 161 472 2433

○ Passcode: 246810

• To join using phone audio only, please use:

○ Call 1-888-924-3239

○ Meeting ID: 161 472 2433

○ Passcode: 246810

○ Submit questions for the meeting: https://forms.gle/nCCQcSniKrBTz2RXA

• Mount Rushmore National Memorial

○ Thursday, June 1, 2023 (6:00 p.m.-7:30 p.m. MDT)

○ Join meeting: https://faavideo.zoomgov.com/j/1615600109

• Passcode: 246810

• To join using the “Zoom Cloud Meetings” app, please use the meeting ID and passcode below:

○ Meeting ID: 161 560 0109

○ Passcode: 246810

• To join using phone audio only, please use:

○ Call 1-888-924-3239

○ Meeting ID: 161 560 0109

○ Passcode: 246810

○ Submit questions for the meeting: https://forms.gle/Jm5cT4DHhfta8fnP9

• Hawai'i Volcanoes National Park

○ Wednesday, June 7, 2023 (6:00 p.m.-7:30 p.m. HST)

○ Join meeting: https://faavideo.zoomgov.com/j/1615197156

• Passcode: 246810

• To join using the “Zoom Cloud Meetings” app, please use the meeting ID and passcode below:

○ Meeting ID: 161 519 7156

○ Passcode: 246810

• To join using phone audio only, please use:

• Call 1-888-924-3239

• Meeting ID: 161 519 7156

• Passcode: 246810

○ Submit questions for the meeting: https://forms.gle/NK67Ue1cGg25twoZ6

ADDRESSES: The meetings will be held virtually. Members of the public who wish to observe the virtual meetings can access the live meeting through the links provided in this notice on the day of the event. The meeting links will also be available at Air Tour Management Plan | Federal Aviation Administration (faa.gov) and on the NPS PEPC websites for each Park.

Contact: Any request for reasonable accommodation related to providing public comments on the draft ATMPs or draft EAs should be sent to the person listed on the Parks' PEPC sites. The U.S. Department of Transportation and U.S. Department of the Interior are committed to providing equal access to the meetings for all participants. If you need alternative formats or services because of a disability, such as sign language, interpretation, or other ancillary aids, please contact the person listed in the FOR FURTHER INFORMATION CONTACT section.

FOR FURTHER INFORMATION CONTACT: Sandra Fox, (202) 267-0928, Sandra.Y.Fox@faa.gov.

SUPPLEMENTARY INFORMATION: The FAA is issuing this notice pursuant to the National Parks Air Tour Management Act of 2000 (Pub. L. 106-181) and its implementing regulations contained in Title 14, Code of Federal Regulations, part 136, subpart B, National Parks Air Tour Management. The objectives of the ATMPs are to develop acceptable and effective measures to mitigate or prevent the significant adverse impacts, if any, of commercial air tour operations upon the natural resources, cultural resources, and visitor experiences of the Parks as well as on tribal lands. The FAA and the NPS are inviting comment from the public, Federal and state agencies, tribes, Native Hawaiian Organizations, and other interested parties on the draft ATMPs and draft EAs for Haleakalā National Park, Hawai'i Volcanoes National Park, Mount Rushmore National Memorial, and Badlands National Park.

The FAA and the NPS have determined that each ATMP constitutes a Federal undertaking subject to compliance with Section 106 of the National Historic Preservation Act and its implementing regulations (36 CFR part 800). The FAA and the NPS have consulted with tribes, Native Hawaiian Organizations, State and Tribal Historic Preservation Officers, and other interested parties to identify historic properties and assess the potential effects of ATMPs on them.

The meetings will be open to the public. Members of the public who wish to observe the virtual meetings can access the livestream from the links and websites provided in this notice.

The FAA and the NPS request that comments be as specific as possible in response to the draft ATMPs and draft EAs. All written comments become part of the official record. Written comments on the draft ATMPs and draft EAs can be submitted via PEPC or sent to the mailing addresses provided on the Parks' PEPC sites. Comments will not be accepted by fax, email, or any other way than those specified above.

Issued in Washington, DC, on May 15, 2023.
Sandra Fox,
Environmental Protection Specialist, FAA Office of Environment & Energy.

[FR Doc. 2023-10622 Filed 5-17-23; 8:45 am]

BILLING CODE 4910-13-P